DEPARTMENT OF COMMERCE

International Trade Administration

[A-570-875]

Non-Malleable Cast Iron Pipe Fittings from the People's Republic of China: Rescission of Antidumping Duty Administrative Review

AGENCY: Import Administration, International Trade Administration, Department of Commerce.

SUMMARY: In response to a request from Norca Engineered Products LLC and NEP Tianjin Machinery Company (collectively “NEP”), exporter of subject merchandise, on April 30, 2009, the Department of Commerce (the “Department”) initiated an administrative review of the antidumping duty order on non-malleable cast iron pipe fittings from the People's Republic of China (“PRC”). See Initiation of Antidumping and Countervailing Duty Administrative Reviews, 74 FR 25711 (May 29, 2009). The period of review (“POR”) is April 1, 2008, through March 31, 2009. For the reason discussed below, we are rescinding this administrative review.

EFFECTIVE DATE: November 19, 2009.

FOR FURTHER INFORMATION CONTACT: Karine Gziryan or Robert Bolling, Office 4, AD/CVD Enforcement, Import Administration, International Trade Administration, U.S. Department of Commerce, 14th Street and Constitution Avenue, N.W., Washington, DC 20230; telephone (202) 482-4081 or (202) 482-3434, respectively.

SUPPLEMENTARY INFORMATION:

Background

On April 1, 2009, the Department published a notice of opportunity to request an administrative review. See Antidumping or Countervailing Duty Order, Finding, or Suspended Investigation; Opportunity to Request Administrative Review, 74 FR 14771 (April 1, 2009). On May 29, 2009, pursuant to a request made by NEP, the Department initiated an administrative review of the antidumping duty order on non-malleable cast iron pipe fittings from the PRC. See Initiation of Antidumping and Countervailing Duty Administrative Reviews, 74 FR 25711 (May 29, 2009). On October 26, 2009, NEP withdrew its request for an administrative review of non-malleable cast iron pipe fittings from the PRC.

Rescission of Antidumping Administrative Review

Pursuant to 19 CFR 351.213(d)(1), the Department will rescind an administrative review, in whole or in part, if a party that requested a review withdraws the request within 90 days of the date of publication of the notice of initiation of the requested review, or withdraws its request at a later date if the Department determines that it is reasonable to extend the time limit for withdrawing the request. As indicated above, NEP withdrew its request for a review on October 26, 2009, which is after the 90-day deadline. NEP stated that it was the only party to request a review.

Given the fact that we have not yet committed significant resources to the administrative review of NEP, we find it reasonable to accept NEP's withdrawal from this review. Specifically, we have not determined the factors of production and surrogate values of inputs used by NEP, calculated a preliminary margin for NEP, nor verified NEP's data.

No other party had requested a review for NEP, and no party has opposed NEP's withdrawal request. Accordingly, the Department is rescinding this review with respect to NEP in accordance with 19 CFR 351.213(d)(1).

Assessment Instructions

The Department will instruct U.S. Customs and Border Protection (“CBP”) to assess antidumping duties on all appropriate entries. For NEP rescinded antidumping duties shall be assessed at rates equal to the cash deposit of estimated antidumping duties required at the time of entry, or withdrawal from warehouse, for consumption, in accordance with 19 CFR 351.212(c)(1)(i). The Department intends to issue appropriate assessment instructions directly to CBP 15 days after publication of this notice.

Notification to Importers

This notice serves as a final reminder to importers of their responsibility under 19 CFR 351.402(f) to file a certificate regarding the reimbursement of antidumping duties prior to liquidation of the relevant entries during this review period. Failure to comply with this requirement could result in the Secretary's presumption that reimbursement of antidumping duties occurred and subsequent assessment of double antidumping duties.

This notice also serves as a reminder to parties subject to administrative protective order (“APO”) of their responsibility concerning the disposition of proprietary information disclosed under APO in accordance with 19 CFR 351.305(a)(3). Timely written notification of the return/destruction of APO materials or conversion to judicial protective order is hereby requested. Failure to comply with the regulations and the terms of an APO is a sanctionable violation.

This notice is in accordance with section 777(i)(1) of the Act and 19 CFR 251.213(d)(4).

Dated: November 13, 2009.
John M. Andersen,
Acting Deputy Assistant Secretary for Antidumping and Countervailing Duty Operations.

[FR Doc. E9-27834 Filed 11-18-09; 8:45 am]

BILLING CODE 3510-DS-S